DEPARTMENT OF THE INTERIOR

Bureau of Land Management

[CO-820-02-5440-DS-C028]

Notice of Availability of Draft Environmental Impact Statement and Draft Amendment to the San Juan/San Miguel Resource Management Plan for a Proposed Ski Area Near Silverton, CO

AGENCY: Bureau of Land Management.

ACTION: Notice of availability of Draft Environmental Impact Statement (EIS) and draft amendment to the San Juan/San Miguel Resource Management Plan (RMP) for a proposed ski area near Silverton, Colorado.

SUMMARY: Pursuant to section 202 of the Federal Land Policy and Management Act of 1976 (FLPMA) and section 102(2)(C) of the National Environmental Policy Act of 1969 (NEPA), the Bureau of Land Management (BLM) directed the preparation of a Draft EIS, prepared by a third party contractor, to provide agency decision makers with comprehensive environmental impact information related to the proposed ski area. The proponent, Core Mountain Enterprises, LLC, proposes to use approximately 1,300 acres of BLM managed public land, combined with about 400 acres of their private lands, for a downhill ski area located about 5 miles north of Silverton, Colorado. The proposed action will require a plan amendment if it results in a change in the scope of resources uses, or decisions in the San Juan/San Miguel RMP.

DATES: Written comments will be accepted for 90 days following the date the Environmental Protection Agency (EPA) publishes this notice in the Federal Register. For future meetings or any other public involvement activities, all parties on the project's mailing list will be notified through written correspondence; in addition, public notices will be placed in the local newspapers 15 days prior to the meetings.

ADDRESSES: Written comments should be sent to the Bureau of Land Management, San Juan Public Lands Center, Columbine Field Office, 15 Burnett Court, Durango, Colorado 81301. Responses to written comments will be published as part of the Final Environmental Impact Statement. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

You may obtain copies of the Draft EIS will from the San Juan Public Lands Center, 15 Burnett Ct. Durango, Colorado. Copies will also be available at the following locations:

Silverton Public Library, 1111 Reese Street, Silverton, Colorado.

Durango Public Library, 1188 2nd Ave., Durango, Colorado.

FOR FURTHER INFORMATION CONTACT: Richard Speegle, Team Leader, Columbine Field Office, at 970-375-3310, or e-mail at richard_speegle@blm.gov.

SUPPLEMENTARY INFORMATION: The Draft EIS/Draft Amendment analyzes four alternatives to address the issues of public safety, Canada lynx impacts, impacts on the local winter economy, impacts to neighboring private lands, public access and other related issues. The four alternatives can be summarized as: Proposed action (unguided skiing only), (A) no action, or continuation of current practices, (B) guided skiing only, and (C) the preferred alternative, an integrated guided and unguided operation. The proposed action alternative is the proposal by Core Mountain Enterprises, LLC (Silverton Outdoor Learning and Recreation Center) for a ski area and recreation/learning facility, titled the “Silverton Outdoor Learning and Recreation Center (SOLRC)” on public lands north of Silverton, Colorado. The proposal includes lift-accessed skiing, snow boarding, and summer and winter related educational courses; and hiking, mountain biking and lift-accessed scenic chairlift rides during the summer months. Seasonal foot bridges would be installed across Cement Creek for skier access. In addition, two summer use trails (one would be a mountaineering trail, the other a hiking trail) are proposed on public lands. The alternative (B) guided operation only, includes the same proposed area and all of the elements of the proposed action, but would allow for a limited “guided only” operation.

It would also allow the optional use of a guided helicopter access, allowing a wider skier distribution and more extensive skier compaction of the area, creating potential skier safety benefits as well as increasing recreational opportunities. The preferred alternative (C) integrated guided and unguided operation, would blend the unguided skiing under the proposed action with the guided only operation of alternative (B), incorporating the skier safety approaches appropriate to both. The preferred alternative (C) would include all elements of both the proposed action and the guided only operation of alternative (B), with the following exceptions:

1. Skier access to the permit area terrain would be staged according to skier safety hazards. Areas where risks were adequately reduced, due to avalanche control efforts and/or naturally evolving snow conditions, would be open to unguided skiing. Areas where hazards existed but could be avoided would be open to guide skiing only, and areas where the hazard was too high to reliably avoid, would be closed.

2. Limited tree thinning, limbing, and cleanup on forested, north-facing slopes within the permit area. The objective would be to increase safe tree-skiing opportunities, primarily for unguided skiers, during periods of high avalanche hazard above timberline. This alternative would incorporate both approaches to skier safety, from resort-style risk reduction as described above under the proposed action to the risk-avoidance approach typical of guided operations (alternative B). Determination of which areas were open for unguided skiing and for guided skiing—and which areas were closed to skiing of any type—would be made on the basis of snow-stability criteria detailed in the skier-safety operation plan.

Public participation has occurred throughout the EIS process. A notice of intent was filed in the Federal Register in September of 2002. Since that time, an open house was conducted in Silverton, Colorado to solicit comments and ideas. Any comments presented throughout the process have been considered.

Dated: April 11, 2003.
Mike Znerold,
Acting Center Manager, San Juan Public Lands Center.

[FR Doc. 03-15792 Filed 6-19-03; 8:45 am]

BILLING CODE 4310-JB-P